DEPARTMENT OF HEALTH AND HUMAN SERVICES

[Document Identifier: OS-0990-new; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: National Survey of Single Parent Caregivers—OMB No. 0990-NEW-OWH; HHS, Office on Women's Health.

Abstract: The National Survey of Single Parent Caregivers will measure the size, characteristics, and unmet needs of single parents providing care for an adult family member or friend. Single parent caregivers provide support services and financial assistance for two generations without the aid of a married partner. Survey results will be used to develop national estimates of the costs borne by single parent caregivers, their psychosocial burden, stress, and diminished social and leisure opportunities, and suggest policy options that mitigate the burden on single parent caregivers. The survey will be administered once under a one-year request, and will contact individuals using computer-assisted telephone interviewing (CATI) methods.

Estimated Annualized Burden Table
Form | Type of respondent | Number of respondents | Number of responses per respondent | Average burden hours per response | Total burden hours
Single Parent Caregiver Survey Instrument | Single Parent Caregivers | 1,000 | 1 | 20/60 | 333

John Teeter,
Office of the Secretary, Paperwork Reduction Act Clearance Officer.

[FR Doc. 2011-21644 Filed 9-2-11; 8:45 am]

BILLING CODE 4150-33-P